DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 03-029. Applicant: Villanova University, 800 Lancaster Avenue, Villanova, PA 19085. Instrument: Fast Flame Ionization Detector (FID), Model HFR 500. Manufacturer: Cambustion Ltd, United Kingdom. Intended Use: The instrument is intended to be used to study the dynamic response of automotive exhaust after-treatment systems. Also, the instrument will be used on a variety of projects related to the dynamics measurement, modeling, diagnosis and control of exhaust after-treatment systems. Application accepted by Commissioner of Customs: June 19, 2003.

Docket Number: 03-030. Applicant: The Research Foundation of the State University of New York, Institute for Laser, Photonics & Biophotonics, 428 Natural Sciences Complex, Buffalo, NY 14260. Instrument: Scanning Nearfield Optical Microscope, Model AlphaSNOM. Manufacturer: Wissenschaftliche Instrumente und Technologie GmbH, Germany. Intended Use: The instrument is intended to be used to study organic nanocrystals, photonic crystals, biological samples, and polymers. Objectives of the research are:

1. Understanding of up-conversion mechanism in nanoscale for organic nanocrystals.

2. The influence of photonic crystals on the nonlinear materials incorporated inside the structure.

3. Intracellular tracking of viral particles.

4. Optimize parameters in order to get highest resolution in case of near field scanning lithography for polymers.

Application accepted by Commissioner of Customs: June 20, 2003.

Docket Number: 03-031. Applicant: Medical College of Georgia, 1120 15th Street, CB-2803, Augusta, GA 30912-2630. Instrument: Electron Microscope, Model JEM-1230 (HC). Manufacturer: JEOL Ltd., Japan. Intended Use: The instrument is intended to be used in research to understand the structure and functions of synapses in the developing and mature rat brain. Transmission electron microscopy coupled with serial-sectioning and 3D image reconstruction will be used in perform a quantitative analysis of the ultrastructure, connectivity, and plasticity of presynaptic, postsynaptic, and glial elements of rat brain. Application accepted by Commissioner of Customs: June 24, 2003.

Docket Number: 03-032. Applicant: University of California, Los Angeles, Department of Neurobiology, 10833 Le Conte Avenue, Los Angeles, CA 90095-1763. Instrument: Electron Microscope, Model Tecnai G² 12 TWIN. Manufacturer: FEI Company, The Netherlands. Intended Use: The instrument is intended to be used in the following applications for the high-resolution freeze-fraction technique: (1) To provide 3-D models of functionally characterized channels and transporters reconstituted in liposomes and (2) identify tags genetically engineered into the molecule, such as the green fluorescent protein (GFP) or single cysteine substitutions having gold particles chemically attached. Application accepted by Commissioner of Customs: June 26, 2003.

Docket Number: 03-033. Applicant: University of Washington, Department of Astronomy, 351580, Seattle, WA 98195. Instrument: Electron Microscope, Model Tecnai ² F20 S-TWIN MAT. Manufacturer: FEI Company, The Netherlands. Intended Use: The instrument is intended to be used for the study of interplanetary dust particles (IDPs) which have been collected in Earth's stratophere by high-flying NASA aircraft. The instrument will also be used to study samples of comet dust returned to Earth in the year 2006 from the Stardust spacecraft. Application accepted by Commissioner of Customs: June 26, 2003.

Docket Number: 03-034. Applicant: U.S. Department of Agriculture, ARS, PWA Office, 800 Buchanan Street, Albany, CA 94710. Instrument: Laboratory Decanter Centrifuge, Type MDZ 003. Manufacturer: Limetic GmbH, Germany. Intended Use: The instrument is intended to be used to evaluate the separation of fraction of wheat slurries that have been prepared to enhance separability by density. Slurries of predeveloped wheat flour dough or batters that have been distributed and/or suspended in water or alcohol-water solutions will be separated. Machine paramets, flow rate and rpm will be assessed for their role in producing enriched fractions. Application accepted by Commissioner of Customs: July 1, 2003.

Gerald A. Zerdy,
Program Manager, Statutory Import Programs Staff.

[FR Doc. 03-18015 Filed 7-15-03; 8:45 am]

BILLING CODE 3510-DS-M